DEPARTMENT OF HEALTH AND HUMAN SERVICES

National Institutes of Health

National Institute on Drug Abuse; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C. as amended. The contract proposals and the discussions could disclose confidential trade secrets or commercial property such as patentable material, and personal information concerning individuals associated with the contract proposals, the disclosure of which would constitute a clearly unwarranted invasion of personal privacy.

Name of Committee: National Institute on Drug Abuse Special Emphasis Panel N44DA-9-2214: Web-based Training for Primary Care Physicians on SBIRT.

Time: May 5, 2009.

Time: 9:30 a.m. to 1 p.m.

Agenda: To review and evaluate contract proposals.

Place: The Dupont Hotel, 1500 New Hampshire Avenue, NW., Washington, DC 20036.

Contact Person: Nadine Rogers, Ph.D., Scientific Review Administrator, Office of Extramural Affairs, National Institute on Drug Abuse, NIH, DHHS, Room 220, MSC 8401, 6101 Executive Boulevard, Bethesda, MD 20892-8401. 301-402-2105. rogersn2@nida.nih.gov.

This notice is being published less than 15 days prior to the meeting due to the timing limitations imposed by the review and funding cycle.

Name of Committee: National Institute on Drug Abuse Special Emphasis Panel N44DA-9-2215: Just Ask: Web-Based Training for SBIRT.

Date: May 5, 2009.

Time: 10:30 a.m. to 11:30 a.m.

Agenda: To review and evaluate contract proposals.

Place: The Dupont Hotel, 1500 New Hampshire Avenue, NW., Washington, DC 20036.

Contact Person: Nadine Rogers, Ph.D., Scientific Review Administrator, Office of Extramural Affairs, National Institute on Drug Abuse, NIH, DHHS, Room 220, MSC 8401, 6101 Executive Boulevard, Bethesda, MD 20892-8401. 301-402-2105. rogersn2@nida.nih.gov.

This notice is being published less than 15 days prior to the meeting due to the timing limitations imposed by the review and funding cycle.

Name of Committee: National Institute on Drug Abuse Special Emphasis Panel N44DA-9-2216-Web-Based Skills Training Agents (topic 91).

Date: May 5, 2009.

Time: 12:30 p.m. to 1:30 p.m.

Agenda: To review and evaluate contract proposals.

Place: The Dupont Hotel, 1500 New Hampshire Avenue, NW., Washington, DC 20036.

Contact Person: Nadine Rogers, Ph.D., Scientific Review Administrator, Office of Extramural Affairs, National Institute on Drug Abuse, NIH, DHHS, Room 220, MSC 8401, 6101 Executive Boulevard, Bethesda, MD 20892-8401. 301-402-2105. rogersn2@nida.nih.gov.

This notice is being published less than 15 days prior to the meeting due to the timing limitations imposed by the review and funding cycle.

Name of Committee: National Institute on Drug Abuse Special Emphasis Panel In Vitro Metabolism and Metabolite Quantification (09-8891).

Date: May 19, 2009.

Time: 9 a.m. to 2 p.m.

Agenda: To review and evaluate contract proposals.

Place: Courtyard by Marriott Rockville, 2500 Research Boulevard, Rockville, MD 20850.

Contact Person: Lyle Furr, Contract Review Specialist, Office of Extramural Affairs, National Institute on Drug Abuse, NIH, DHHS, Room 220, MSC 8401, 6101 Executive Boulevard, Bethesda, MD 20892-8401. (301) 435-1439. lf33c.nih.gov.

Name of Committee: National Institute on Drug Abuse Special Emphasis Panel N01DA-9-2217: Data and Statistics Center for the CTN.

Date: May 27-28, 2009.

Time: 9:30 a.m. to 4 p.m.

Agenda: To review and evaluate contract proposals.

Place: Doubletree Bethesda Hotel, 8120 Wisconsin Avenue, Bethesda, MD 20814.

Contact Person: Minna Liang, Ph.D., Scientific Review Officer, Training and Special Projects Review Branch, Office of Extramural Affairs, National Institute on Drug Abuse, NIH, 6101 Executive Blvd., Room 220, MSC 8401, Bethesda, MD 20852. 301-435-1432. liangm@nida.nih.gov.

Name of Committee: National Institute on Drug Abuse Special Emphasis Panel Communication Support (09-1139).

Date: May 28-29, 2009.

Time: 9 a.m. to 1 p.m.

Agenda: To review and evaluate contract proposals.

Place: Courtyard by Marriott Rockville, 2500 Research Boulevard, Rockville, MD 20850.

Contact Person: Lyle Furr, Contract Review Specialist, Office of Extramural Affairs, National Institute on Drug Abuse, NIH, DHHS, Room 220, MSC 8401, 6101 Executive Boulevard, Bethesda, MD 20892-8401. (301) 435-1439. lf33c.nih.gov.

Name of Committee: National Institute on Drug Abuse Special Emphasis Panel Drug Testing for Clinical Trials (09-8882).

Date: June 3, 2009.

Time: 9 a.m. to 1 p.m.

Agenda: To review and evaluate contract proposals.

Place: Courtyard by Marriott Rockville, 2500 Research Boulevard, Rockville, MD 20850.

Contact Person: Lyle Furr, Contract Review Specialist, Office of Extramural Affairs, National Institute on Drug Abuse, NIH, DHHS, Room 220, MSC 8401, 6101 Executive Boulevard, Bethesda, MD 20892-8401. (301) 435-1439. lf33c.nih.gov.

(Catalogue of Federal Domestic Assistance Program Nos 93279, Drug Abuse and Addiction Research Programs, National Institutes of Health, HHS)

Dated: April 16, 2009.
Jennifer Spaeth,
Director, Office of Federal Advisory Committee Policy.

[FR Doc. E9-9255 Filed 4-23-09; 8:45 am]

BILLING CODE 4140-01-M